DEPARTMENT OF ENERGY

Office of Energy Efficiency and Renewable Energy

Establishment of the Energy Efficiency and Renewable Energy Advisory Committee and Request for Member Nominations

AGENCY: Office of Energy Efficiency and Renewable Energy, U.S. Department of Energy.

ACTION: Notice of Intent to Establish the Energy Efficiency and Renewable Energy Advisory Committee and request member nominations.

SUMMARY: Pursuant to Section 14(a)(2)(A) of the Federal Advisory Committee Act (FACA) and in accordance with Title 41 of the Code of Federal Regulations, Section 102-3.65, and following consultation with the Committee Management Secretariat, General Services Administration, notice is hereby given that the Energy Efficiency and Renewable Energy Advisory Committee (ERAC) has been established. To ensure a wide range of candidates for ERAC and a balanced committee, DOE is using this public announcement as an avenue to solicit nominations for this Committee.

DATES: Nominations should be submitted by July 6, 2010.

ADDRESSES: Nominations should be submitted in electronic format. Nominations should be sent via e-mail to erac.nominees@ee.doe.gov. Any requests for further information should also be sent via e-mail to erac.nominees@ee.doe.gov.

SUPPLEMENTARY INFORMATION:

The Committee will provide advice and recommendations to the Secretary of Energy (Secretary) on the research, development, demonstration, and deployment priorities within the field of energy efficiency and renewable energy. The Committee's scope is to review and make recommendations on (1) the diverse elements of the Office of Energy Efficiency and Renewable Energy (EERE) portfolio, (2) the competing long-range plans, priorities and strategies to support EERE's mission, (3) the appropriate levels of funding to develop those plans, priorities, and strategies and to help maintain an appropriate balance, (4) specific issues of concern to DOE as requested by the Secretary of Energy or the Assistant Secretary for EERE.

DOE is hereby soliciting nominations for members of the Committee. The Committee is expected to be continuing in nature. The Secretary of Energy will appoint approximately twenty (20) Committee members. Members will be selected with a view toward achieving a balanced committee of experts in fields relevant to EERE, including representatives of industry, academia, utilities, State and/or local governments, professional societies, nongovernmental organizations, Federal laboratories, finance and venture capital entities, and other appropriate organizations based on the needs of the Committee and DOE. Committee members will serve for a term of three years or less and may be reappointed for successive terms, with no more than two successive terms. Appointments may be made in a manner that allows the terms of the members serving at any time to expire at spaced intervals, so as to ensure continuity in the functioning of the Committee. The Committee is expected to meet twice per year. Subcommittees to address specific agenda items are anticipated. Some Committee members may be appointed as special Government employees (SGEs) and will be subject to certain ethical restrictions as a result. Such members will also be required to submit certain information in connection with the appointment process.

Process and Deadline for Submitting Nominations

Qualified individuals can self-nominate or be nominated by any individual or organization. Nominators should submit (via e-mail to erac.nominees@ee.doe.gov) a description of the nominee's qualifications, including matters that would enable the Department to make an informed decision, such as but not limited to the nominee's education and professional experience. Should more information be needed, DOE staff will contact the nominee, obtain information from the nominee's past affiliations, or obtain information from publicly available sources, such as the internet. A selection team will review the nomination packages. This team will be comprised of representatives from several DOE Offices. DOE is seeking a balance of appropriate stakeholder viewpoints to address the diversity of EERE's portfolio, including SGE members and representative members. The selection team will consider many criteria, including and not limited to: (a) Scientific or technical expertise, knowledge, and experience; (b) stakeholder representation; (c) availability and willingness to serve; and (d) skills working in committees, subcommittees and advisory panels. Structured interviews with some candidates may also occur. The selection team will make recommendations regarding membership to the Assistant Secretary for Energy Efficiency and Renewable Energy (EERE). The Assistant Secretary for EERE will submit a list of recommended candidates to the Secretary for review and selection of Committee members. Candidates selected by the Secretary of Energy to serve as SGEs will be required to fill out the Confidential Financial Disclosure Form for special Government employees serving on Federal Advisory Committees at the U.S. Department of Energy and other forms incidental to Federal appointment. The confidential financial disclosure form allows Government officials to determine whether there is a conflict between the special Government employee's public responsibilities and private interests and activities, or the appearance of a lack of impartiality, as defined by statute and regulation. The form may be viewed from the following URL address: http://www.eere.energy.gov/advisory_panels.html.

FOR FURTHER INFORMATION CONTACT: Dr. JoAnn Milliken at (202) 586-2480.

Issued in Washington, DC, on June 16, 2010.
Carol A. Matthews,
Committee Management Officer.

[FR Doc. 2010-15029 Filed 6-21-10; 8:45 am]

BILLING CODE 6450-01-P